ENVIRONMENTAL PROTECTION AGENCY

[FRL-7996-4]

Public Water System Supervision Program Revisions for the State of Michigan

AGENCY: Environmental Protection Agency (EPA).

ACTION: Notice of tentative approval.

SUMMARY: Notice is hereby given that the State of Michigan is revising its approved Public Water System Supervision Program. Michigan has: revised its administrative penalty authority for public water systems; adopted the Consumer Confidence Report Rule, which requires annual drinking water quality reports from all community water systems; adopted the Interim Enhanced Surface Water Treatment Rule, which will help improve control of microbial pathogens in drinking water; adopted the Stage 1 Disinfectants and Disinfection Byproducts Rule, which will set new requirements to limit the formation of chemical disinfection byproducts in drinking water; and adopted the Public Notification Rule, which revises the general public notification regulations (sets requirements for public water systems to follow regarding the form, manner, frequency, and content of a public notice).

EPA has determined that these revisions are no less stringent than the corresponding federal regulations. Therefore, EPA intends to approve these program revisions. This approval action does not extend to public water systems (PWSs) in Indian Country, as that term is defined in 18 U.S.C. 1151. By approving these rules, EPA does not intend to affect the rights of federally recognized Indian tribes in Michigan, nor does it intend to limit existing rights of the State of Michigan.

Any interested party may request a public hearing. A request for a public hearing must be submitted by December 14, 2005, to the Regional Administrator at the EPA Region 5 address shown below. The Regional Administrator may deny frivolous or insubstantial requests for a hearing. However, if a substantial request for a public hearing is made by December 14, 2005, EPA Region 5 will hold a public hearing.

If EPA Region 5 does not receive a timely and appropriate request for a hearing and the Regional Administrator does not elect to hold a hearing on his own motion, this determination shall become final and effective on December 14, 2005. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Michigan Department of Environmental Quality, Water Bureau, Constitution Hall, 525 W. Allegan Street, 2nd Floor, PO Box 30273, Lansing, Michigan 48909-7773, between the hours of 8:30 a.m. and 4 p.m., Monday through Friday, and the United States Environmental Protection Agency, Region 5, Ground Water and Drinking Water Branch (WG-15J), 77 West Jackson Boulevard, Chicago, Illinois 60604, between the hours of 9 a.m. and 4:30 p.m., Monday through Friday,

FOR FURTHER INFORMATION CONTACT: Jennifer Kurtz Crooks, EPA Region 5, Ground Water and Drinking Water Branch, at the address given above, by telephone at (312) 886-0244, or at crooks.jennifer@epa.gov.

Authority: (Section 1413 of the Safe Drinking Water Act, as amended, 42 U.S.C. 3006-2 (1996), and 40 CFR part 142 of the National Primary Drinking Water Regulations).

Dated: October 28, 2005.
Bharat Mathur,
Acting Regional Administrator, Region 5.

[FR Doc. 05-22548 Filed 11-10-05; 8:45 am]

BILLING CODE 6560-50-P